SECURITIES AND EXCHANGE COMMISSION

Sunshine Act Meetings

TIME AND DATE: Notice is hereby given, pursuant to the provisions of the Government in the Sunshine Act, Public Law 94-409, that the Securities and Exchange Commission Small Business Capital Formation Advisory Committee on Small and Emerging Companies will hold a public telephonic meeting on Wednesday, December 11, 2019 at 11:00 a.m. (ET).

PLACE: The meeting will be conducted by telephonic conference call. There will be no physical meeting place. Members of the public may listen to the live audiocast of the telephonic meeting on the Commission's website at www.sec.gov.

STATUS: The meeting will begin at 11:00 a.m. (ET) and will be open to the public. Members of the public may listen to the live audiocast of the telephonic meeting on the Commission's website at www.sec.gov.

MATTERS TO BE CONSIDERED: On November 26, 2019, the Commission published notice of the Committee meeting (Release No. 33-10729), indicating that the meeting is open to the public and inviting the public to submit written comments to the Committee. This Sunshine Act notice is being issued because a majority of the Commission may attend the meeting.

The agenda for the meeting includes matters relating to rules and regulations affecting small and emerging companies under the federal securities laws.

CONTACT PERSON FOR MORE INFORMATION: For further information, please contact the Office of the Secretary at (202) 551-5400.

Dated: December 4, 2019.
Vanessa A. Countryman,
Secretary.

[FR Doc. 2019-26509 Filed 12-5-19; 11:15 am]

BILLING CODE 8011-01-P